DEPARTMENT OF JUSTICE

Antitrust Division

Notice Pursuant to the National Cooperative Research and Production Act of 1993—ACORD Corporation

Notice is hereby given that, on September 20, 2004, pursuant to Section 6(a) of the National Cooperative Research and Production Act of 1993, 15 U.S.C. 4301 et seq. (“the Act”), ACORD Corporation (“ACORD”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: ACORD Corporation, Pearl River, NY. The nature and scope of ACORD's standards development activities are: To improve efficiency in insurance and reinsurance transactions by: (1) Providing a common framework for the interchange of information; (2) speeding up communication of data; (3) reducing processing costs and paperwork; and (4) improving accuracy and facilitating e-commerce.

Dorothy B. Fountain,
Deputy Director of Operations, Antitrust Division.

[FR Doc. 04-26206 Filed 11-26-04; 8:45 am]

BILLING CODE 4410-11-M